DEPARTMENT OF TRANSPORTATION

Federal Aviation Administration

14 CFR Parts 11, 21, 23, 36, 63, 65, 73, 91, 119, 121, 125, 129, and 135

[Docket No. FAA-2002-11670; Amdt. Nos. 11-47, 21-80, 23-55, 36-23, 63-31, 65-43, 73-9, 91-273, 119-5, 121-290, 125-38, 129-32, 135-84]

Removal of Expired Special Federal Aviation Regulations

AGENCY: Federal Aviation Administration (FAA), DOT.

ACTION: Final rule; technical amendment.

SUMMARY: The Federal Aviation Administration (FAA) is making minor technical changes to its regulations by removing Special Federal Aviation Regulations (SFARs) that have expired, as well as references to them, from the Code of Federal Regulations. None of these changes are substantive in nature since the regulations in question have expired and are not currently in effect. This technical amendment is necessary to update our regulations. The rule will not impose any additional burden or restriction on persons or organizations affected by these regulations.

EFFECTIVE DATE: Effective on March 1, 2002.

FOR FURTHER INFORMATION CONTACT: Bonnie Fritts, (202) 267-7037; Federal Aviation Administration, 800 Independence Avenue, SW., Washington, DC 20591; e-mail bonnie.fritts@faa.gov.

SUPPLEMENTARY INFORMATION:

Background

The FAA periodically issues temporary regulations called Special Federal Aviation Regulations (SFARs). These SFARs are typically expected to be necessary for a finite period of time, and therefore, usually specify an expiration date within the regulatory text of the SFAR. Title 14 of the Code of Federal Regulations currently contains several SFARs with expiration dates that have passed. To maintain an accurate body of regulations, we are removing those expired SFARs, as well as references to them, which are now obsolete. This document makes the appropriate technical changes to remove SFAR Nos. 26, 38-2, 41, 52, 53, 62, 63, 64, 66-2, and 67, and corresponding references to them from the Code of Federal Regulations. In one instance of corresponding reference, the entire section pertains to the expired SFAR. That section, § 119.2, is removed in its entirety. The following table of expired SFARs is presented for the reader's convenience.

Expired SFARs and Conforming Amendments
Part containing SFAR | SFAR to be removed | Expiration date | Conforming amendments
11 |  |  | 11.201(b) OMB Table (SFAR 64 reference).
21 | 26 | 12-01-1977 |
| 41 | 09-13-1983 |
23 |  |  | Editorial note to SFAR 41.
36 |  |  | Editorial note to SFAR 41.
63 | 63 | 12-31-1992 |
65 | 63 | 12-31-1992 |
73 | 53 | 01-15-1996 |
91 | 62 | 12-30-1993 |
| 64 | 12-31-1999 |
| 66-2 | Suspended indefinitely on 01-09-1996 |
| 67 | 05-10-2000 |
119 |  |  | 119.1(e)(2) (SFAR 38-2 reference). 119.2 entire section obsolete (SFAR 38-2 references).
121 | 38-2 | 03-20-1997 |
|  |  | Editorial note to SFAR 52.
125 |  |  | Editorial note to SFAR 38-2.
129 |  |  | Editorial note to SFAR 38-2.
135 |  |  | Editorial note to SFAR 38-2.
| 52 | 12-01-1988

Under the Administrative Procedure Act, an agency doesn't have to issue a notice of proposed rulemaking when the agency for good cause finds that notice and public procedure are “impracticable, unnecessary, or contrary to the public interest.” See 5 U.S.C. 553(b). Because this technical amendment simply removes obsolete regulations and references, we find that publishing the changes for public notice and comment is necessary.

The Administrative Procedure Act also states that an agency must publish a substantive rule not less than 30 days before its effective date, except as otherwise provided by the agency for good cause. See 5 U.S.C. 553(b). We find that this technical amendment imposes no additional burden or requirement on the regulated industry, and is not substantive in nature. Moreover, We find that there is good cause to make the changes effective immediately upon publication in the Federal Register. It is in the public interest to remove these obsolete references from regulations immediately.

This regulation is editorial in nature and imposes no additional burden on any person or organization. Therefore, we have determined the action: (1) Is not a significant rule under Executive Order 12866; and (2) is not a significant rule under Department of Transportation Regulatory Policies and Procedures. No impact is expected to result, and a full regulatory evaluation is not required. In addition, the FAA certifies that rule will not have a significant economic impact, positive or negative, on a substantial number of small entities under the criteria of the Regulatory Flexibility Act.

List of Subjects

14 CFR Part 11

Administrative practice and procedure, Reporting and recordkeeping requirements.

14 CFR Part 21

Aircraft, Aviation safety, Exports, Imports, Reporting and recordkeeping requirements.

14 CFR Part 23

Aircraft, Aviation safety, Signs and symbols.

14 CFR Part 36

Aircraft, Noise control.

14 CFR Part 63

Aircraft, Airmen, Alcohol abuse, Drug abuse, Navigation (air), Reporting and recordkeeping requirements.

14 CFR Part 65

Air traffic controllers, Aircraft, Airmen, Airports, Alcohol abuse, Drug abuse, Reporting and recordkeeping requirements.

14 CFR Part 73

Airspace, Navigation (air), Security measures.

14 CFR Part 91

Afghanistan, Agriculture, Air traffic control, Aircraft, Airmen, Airports, Aviation safety, Canada, Cuba, Former Yugoslavia, Freight, Mexico, Noise control, Political candidates, Reporting and recordkeeping requirements.

14 CFR Part 119

Administrative practice and procedure, Air carriers, Aircraft, Aviation safety, Charter flights, Reporting and recordkeeping requirements.

14 CFR Part 121

Air carriers, Aircraft, Airmen, Alcohol abuse, Aviation safety, Charter flights, Drug abuse, Drug testing, Reporting and recordkeeping requirements, Safety, Transportation.

14 CFR Part 125

Aircraft, Airmen, Aviation safety, Reporting and recordkeeping requirements.

14 CFR Part 129

Air carriers, Aircraft, Aviation safety, Reporting and recordkeeping requirements, Security measures, Smoking.

14 CFR Part 135

Air taxis, Aircraft, Airmen, Alcohol abuse, Aviation safety, Drug abuse, Drug testing, Reporting and recordkeeping requirements.

In consideration of the foregoing, the Federal Aviation Administration amends parts 11, 21, 23, 36, 63, 65, 73, 91, 119, 121, 125, 129, and 135 of title 14 of the Code of Federal Regulations as follows:

PART 11—GENERAL RULEMAKING PROCEDURES

1. The authority citation for part 11 continues to read as follows:

Authority: 49 U.S.C. 106(g), 40101, 40103, 40105, 40109, 40113, 44110, 44502, 44701-44702, 44711, and 46102.

§ 11.201 [Amended]

2. Amend § 11.201(b) by removing the penultimate entry for SFAR 64 from the table.

PART 21—CERTIFICATION PROCEDURES FOR PRODUCTS AND PARTS

3. The authority citation for part 21 continues to read as follows:

Authority: 42 U.S.C. 7572; 49 U.S.C. 106(g), 40105, 40113, 44701-44702, 44707, 44709, 44711, 44713, 44715, 45303.

Special Federal Aviation Regulation No. 26 [Removed]

4. Remove SFAR No. 26 from part 21.

Special Federal Aviation Regulation No. 41 [Removed]

5. Remove SFAR No. 41 from part 21.

PART 23—AIRWORTHINESS STANDARDS: NORMAL, UTILITY, ACROBATIC, AND COMMUTER CATEGORY AIRPLANES

6. The authority citation for part 23 continues to read as follows:

Authority: 49 U.S.C. 106(g), 40113, 44701-44702, 44704.

Special Federal Aviation Regulation No. 41 [Removed]

7. Remove SFAR No. 41 editorial note from part 23.

PART 36—NOISE STANDARDS: AIRCRAFT TYPE AND AIRWORTHINESS CERTIFICATION

8. The authority citation for part 36 continues to read as follows:

Authority: 42 U.S.C. 4321 et seq.; 49 U.S.C. 106(g), 40113, 44701-44702, 44704, 44715; sec. 305, Pub. L. 96-193, 94 Stat. 50, 57; E.O. 11514, 35 FR 4247, 3 CFR, 1966-1970 Comp., p. 902.

Special Federal Aviation Regulation No. 41 [Removed]

9. Remove SFAR No. 41 editorial note from part 36.

PART 63—CERTIFICATION: FLIGHT CREWMEMBERS OTHER THAN PILOTS

10. The authority citation for part 63 continues to read as follows:

Authority: 49 U.S.C. 106(g), 40113, 44701-44703, 44707, 44709-44711, 45102-45103, 45301-45302.

Special Federal Aviation Regulation No. 63 [Removed]

11. Remove SFAR No. 63 from part 63.

PART 65—CERTIFICATION: AIRMEN OTHER THAN FLIGHT CREWMEMBERS

12. The authority citation for part 65 continues to read as follows:

Authority: 49 U.S.C. 106(g), 40113, 44701-44703, 44707, 44709-44711, 45102-45103, 45301-45302.

Special Federal Aviation Regulation No. 65 [Removed]

13. Remove SFAR No. 63 from part 65.

PART 73—SPECIAL USE AIRSPACE

14. The authority citation for part 73 continues to read as follows:

Authority: 49 U.S.C. 106(g), 40103, 40113, 40120; E.O. 10854, 24 FR 9565, 3 CFR, 1959-1963 Comp., p. 389.

Special Federal Aviation Regulation No. 53 [Removed]

15. Remove SFAR No. 53 from part 73.

PART 91—GENERAL OPERATING AND FLIGHT RULES

16. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

Special Federal Aviation Regulation No. 62 [Removed]

17. Remove SFAR No. 62 from part 91.

Special Federal Aviation Regulation No. 64 [Removed]

18. Remove SFAR No. 64 from part 91.

Special Federal Aviation Regulation No. 66-2 [Removed]

19. Remove SFAR No. 66-2 from part 91.

Special Federal Aviation Regulation No. 67 [Removed]

20. Remove SFAR No. 67 from part 91.

PART 119—CERTIFICATION: AIR CARRIERS AND COMMERCIAL OPERATORS

21. The authority citation for part 119 continues to read as follows:

Authority: 49 U.S.C. 106(g), 1153, 40101, 40102, 40103, 40113, 44105, 44106, 44111, 44701-44717, 44722, 44901, 44903, 44904, 44906, 44912, 44914, 44936, 44938, 46103, 46105.

§ 119.1 [Amended]

22. Amend § 119.1(e)(2) by removing the words “and SFAR 38-2 of 14 CFR part 121”.

§ 119.2 [Removed]

23. Remove § 119.2.

PART 121—OPERATING REQUIREMENTS: DOMESTIC, FLAG, AND SUPPLEMENTAL OPERATIONS

24. The authority citation for part 121 continues to read as follows:

Authority: 49 U.S.C. 106(g), 40113, 40119, 41706, 44101, 44710-44702, 44705, 44709-44711, 44713, 44716-44717, 44722, 44901, 44903-44904, 44912, 46105.

Special Federal Aviation Regulation No. 38-2 [Removed]

25. Remove SFAR No. 38-2 from part 121.

Special Federal Aviation Regulation No. 52 [Removed]

26. Remove SFAR No. 52 editorial note from part 121.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

27. The authority citation for part 125 continues to read as follows:

Authority: 49 U.S.C. 106(g), 40113, 44701-44702, 44705, 44710-44711, 44713, 44716-44717, 44722.

Special Federal Aviation Regulation No. 38-2 [Removed]

28. Remove SFAR No. 38-2 editorial note from part 125.

PART 129—OPERATIONS: FOREIGN AIR CARRIERS AND FOREIGN OPERATORS OF U.S.-REGISTERED AIRCRAFT ENGAGED IN COMMON CARRIAGE

29. The authority citation for part 129 continues to read as follows:

Authority: 49 U.S.C. 106(g), 40104-40105, 40113, 40119, 41706, 44701-44702, 44712, 44716-44717, 44722, 44901-44904, 44906.

Special Federal Aviation Regulation No. 38-2 [Removed]

30. Remove SFAR No. 38-2 editorial note from part 129.

PART 135—OPERATING REQUIREMENTS: COMMUTER AND ON DEMAND OPERATIONS AND RULES GOVERNING PERSONS ON BOARD SUCH AIRCRAFT

31. The authority citation for part 135 continues to read as follows:

Authority: 49 U.S.C. 106(g), 41706, 44113, 44701-44702, 44705, 44709, 44711-44713, 44715-44717, 44722.

Special Federal Aviation Regulation No. 38-2 [Removed]

32. Remove SFAR No. 38-2 editorial note from part 135.

Special Federal Aviation Regulation No. 52 [Removed]

33. Remove SFAR No. 52 from part 135.

Issued in Washington, DC on February 22, 2002.
Donald P. Byrne,
Assistant Chief Counsel for Regulations.

[FR Doc. 02-4846 Filed 2-28-02; 8:45 am]

BILLING CODE 4910-13-M